DEPARTMENT OF TRANSPORTATION

Federal Aviation Administration

14 CFR Part 71

[Docket No. FAA-2017-0865; Airspace Docket No. 17-ASO-19]

RIN-2120-AA66

Amendment of Class D and Class E Airspace; Biloxi, MS, and Gulfport, MS

AGENCY: Federal Aviation Administration (FAA), DOT.

ACTION: Final rule

SUMMARY: This action amends Class D airspace, and Class E surface airspace, in addition to removing the NOTAM part-time status from Class E airspace designated as an extension, and amending Class E airspace extending upward from 700 feet above the surface at Keesler Air Force Base (AFB), Biloxi, MS, and Gulfport-Biloxi International Airport, (formerly Gulfport-Biloxi Regional Airport), Gulfport, MS. The geographic coordinates for these airports and the Keesler TACAN navigation aid are adjusted in the associated Class D and E airspace to match the FAA's aeronautical database. Also, this action replaces the outdated term “Airport/Facility Directory” with the term “Chart Supplement” in the Class D and Class E surface area legal descriptions. This action enhances the safety and management of instrument flight rules (IFR) operations at these airports.

DATES: Effective 0901 UTC, November 8, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave., College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace at Keesler AFB, Biloxi, MS, and Gulfport-Biloxi International Airport, Gulfport, MS, to support IFR operations at these airports.

History

The FAA published a notice of proposed rulemaking in the Federal Register (83 FR 8208; February 26, 2018) for Docket No. FAA-2017-0865 to amend Class D airspace, Class E surface airspace, Class E airspace designated as an extension to Class D surface area, and Class E airspace extending upward from 700 feet above the surface at Keesler AFB, Biloxi, MS, and Gulfport-Biloxi International Airport.

Interested parties were invited to participate in this rulemaking effort by submitting written comments on the proposal to the FAA. No comments were received.

Class D and E airspace designations are published in paragraph 5000, 6002, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by amending Class D airspace, and Class E surface area airspace, in addition to removing the NOTAM part-time status from Class E airspace designated as an extension to a Class D surface area, and amending Class E airspace extending upward from 700 feet or more above the surface at Keesler AFB, Biloxi, MS, and Gulfport-Biloxi International Airport (formerly Gulfport-Biloxi Regional Airport, Gulfport, MS.

This action also amends the geographic coordinates of these airports and the Keesler TACAN navigation aid in the noted airspace classes to be in concert with the FAA's aeronautical database.

Additionally, this action notes the airport name change to Gulfport-Biloxi International Airport from Gulfport-Biloxi Regional Airport.

Finally, this action makes an editorial change to the Class D and Class E surface area airspace legal descriptions replacing “Airport/Facility Directory” with “Chart Supplement” for Keesler AFB, and Gulfport-Biloxi International Airport.

Class D and Class E airspace designations are published in Paragraph 5000, 6002, 6004, and 6005, respectively, of FAA Order 7400.11B, dated August 3, 2017, and effective September 15, 2017, which is incorporated by reference in 14 CFR 71.1. The Class D and E airspace designations listed in this document will be published subsequently in the Order.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO MS D Biloxi, MS [Amended]

Keesler AFB, MS

(Lat. 30°24′38″ N, long. 88°55′28″ W)

That airspace extending upward from the surface to and including 2,500 feet MSL within a 4.2-mile radius of Keesler AFB, excluding the portion west of long. 89°00′00″ W. This Class D airspace area is effective during the specific dates and times established in advance by a Notice to Airmen. The effective date and time will thereafter be continuously published in the Chart Supplement.

* * * * *

ASO MS D Gulfport, MS [Amended]

Gulfport-Biloxi International Airport, MS

(Lat. 30°24′26″ N, long. 89°04′12″ W)

That airspace extending upward from the surface to and including 2,500 feet MSL within a 4.5-mile radius of Gulfport-Biloxi International Airport; excluding that portion of airspace within the Biloxi, MS, Class D airspace area. This Class D airspace area is effective during the specific dates and times established in advance by a Notice to Airmen. The effective date and time will thereafter be continuously published in the Chart Supplement.

Paragraph 6002 Class E Surface Area Airspace.

* * * * *

ASO MS E2 Biloxi, MS [Amended]

Keesler AFB, MS

(Lat. 30°24′38″ N, long. 88°55′28″ W)

Within a 4.2-mile radius of Keesler AFB, excluding the portion west of long. 89°00′00″ W. This Class E airspace area is effective during the specific dates and times established in advance by a Notice to Airmen. The effective date and time will thereafter be continuously published in the Chart Supplement.

Paragraph 6004 Class E Airspace Designated as an Extension to a Class D Surface Area.

* * * * *

ASO MS E4 Biloxi, MS [Amended]

Keesler AFB, MS

(Lat. 30°24′38″ N, long. 88°55′28″ W)

Keesler TACAN

(Lat. 30°24′26″ N, long. 88°55′47″ W)

That airspace extending upward from the surface within 1.4 miles each side of the Keesler TACAN 204° radial, extending from the 4.2-mile radius of Keesler AFB to 6 miles southwest of the TACAN.

* * * * *

ASO MS E4 Gulfport, MS [Amended]

Gulfport-Biloxi International Airport, MS

(Lat. 30°24′26″ N, long. 89°04′12″ W)

Gulfport VORTAC

(Lat. 30°24′25″ N, long. 89°04′36″ W)

That airspace extending upward from the surface within 3.3 miles each side of Gulfport VORTAC 130° and 322° radials, extending from the 4.5-mile radius of Gulfport-Biloxi International Airport to 7 miles southeast and northwest of the VORTAC; excluding that portion within the Biloxi, MS, Class D and E airspace areas.

Paragraph 6005 Class E Airspace Areas Extending Upward From 700 Feet or More Above the Surface of the Earth.

* * * * *

ASO MS E5 Gulfport, MS [Amended]

Gulfport-Biloxi International Airport, MS

(Lat. 30°24′26″ N, long. 89°04′12″ W)

Keesler AFB

(Lat. 30°24′38″ N, long. 88°55′28″ W)

Keesler TACAN

(Lat. 30°24′26″ N, long. 88°55′47″ W)

That airspace extending upward from 700 feet above the surface within a 7-mile radius of Gulfport-Biloxi International Airport and within a 6.5-mile radius of Keesler AFB and within 2 miles each side of Keesler TACAN 204° radial, extending from the 6.5-mile radius to 10.6 miles southwest of the TACAN.

Issued in College Park, Georgia, on August 1, 2018.
Ryan W. Almasy,
Manager, Operations Support Group, Eastern Service Center, Air Traffic Organization.

[FR Doc. 2018-17088 Filed 8-9-18; 8:45 am]

BILLING CODE 4910-13-P